DEPARTMENT OF THE TREASURY

Submission for OMB Review; Comment Request

March 24, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 2, 2005 to be assured of consideration.

Financial Management Service (FMS)

OMB Number: 1510-0047.

Form Number: TFS 2211.

Type of Review: Extension.

Title: List of Data (A) and List of Data (B).

Description: Information from insurance companies to provide Treasury a basis to determine acceptability of companies applying for a Certificate of Authority to write or reinsure Federal surety bonds or an Admitted Reinsurer (not on excess risks to U.S.).

Respondents: Business or other for-profit.

Estimated Number of Respondents: 30.

Estimated Burden Hours Per Respondent: 18 hours.

Frequency of Response: On occasion, Other (applications).

Estimated Total Reporting Burden: 540 hours.

Clearance Officer: Jiovannah L. Diggs, Financial Management Service, Administrative Programs Division, Records and Information Management Program, 3700 East West Highway, Room 144, Hyattsville, MD 20782, (202) 874-7662.

OMB Reviewer: Joseph F. Lackey, Jr., Office of Management and Budget, Room 10235, New Executive Office Building, Washington, DC 20503, (202) 395-7316.

Lois K. Holland,
Treasury PRA Clearance Officer.

[FR Doc. 05-6468 Filed 3-31-05; 8:45 am]

BILLING CODE 4810-35-P